GENERAL SERVICES ADMINISTRATION

[OMB Control No. 3090-0246]

General Services Administration Regulation; Submission for OMB Review; Packing List Clause

AGENCY: Office of Acquisition Policy, GSA.

ACTION: Notice of request for reinstatement of and information collection requirement for an existing OMB clearance.

SUMMARY: Under the provisions of the Paperwork Reduction Act of 1995 (44 U.S.C. Chapter 35), the General Services Administration will be submitting to the Office of Management and Budget (OMB) a request to review and approve a reinstatement of a previously approved information collection requirement regarding the packing list clause. A request for public comments was published in the Federal Register at 74 FR 52811, October 14, 2009. No comments were received.

Public comments are particularly invited on: whether this collection of information is necessary and whether it will have practical utility; whether our estimate of the public burden of this collection of information is accurate, and based on valid assumptions and methodology; and ways to enhance the quality, utility, and clarity of the information to be collected.

DATES: Submit comments on or before: February 12, 2010.

ADDRESSES: Submit comments regarding this burden estimate or any other aspect of this collection of information, including suggestions for reducing this burden to the GSA Desk Officer, OMB, Room 10236, NEOB, Washington, DC 20503, and a copy to the Regulatory Secretariat (MVPR), General Services Administration, 1800 F Street, NW., Room 4041, Washington, DC 20405. Please cite OMB Control No. 3090-0246, Packing List Clause, in all correspondence.

FOR FURTHER INFORMATION CONTACT: Michael O. Jackson, Procurement Analyst, Contract Policy Branch, by telephone (202) 208-4949 or via e-mail at michaelo.jackson@gsa.gov.

SUPPLEMENTARY INFORMATION:

A. Purpose

GSAR clause 552.211-77, Packing List, requires a contractor to include a packing list that verifies placement of an order and identifies the items shipped. In addition to information contractors would normally include on packing lists, the identification of cardholder name, telephone number and the term “Credit Card” is required.

B. Annual Reporting Burden

Respondents: 4,000.

Responses per Respondent: 233.

Hours per Response: .00833.

Total Burden Hours: 7757.

Obtaining Copies of Proposals: Requesters may obtain a copy of the information collection documents from the General Services Administration, Regulatory Secretariat (MVPR), 1800 F Street, NW., Room 4041, Washington, DC 20405, telephone (202) 501-4755. Please cite OMB Control No. 3090-0246, Packing List Clause, in all correspondence.

Dated: January 7, 2010.
Al Matera,
Director, Acquisition Policy Division.

[FR Doc. 2010-418 Filed 1-12-10; 8:45 am]

BILLING CODE 6820-61-P